FEDERAL ELECTION COMMISSION

Sunshine Act Notices

Date and Time: Tuesday, December 2, 2008 at 10 a.m.

Place: 999 E Street, NW., Washington, DC.

Status: This meeting will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date and Time: Thursday, December 4, 2008 at 2 p.m.

Place: 999 E Street, NW., Washington, DC (Ninth Floor).

Status: This meeting will be open to the public.

Items To Be Discussed: Correction and Approval of Minutes.

Draft Advisory Opinion 2008-17: Missourians for Kit Bond and KITPAC by Kathryn Biber Chen, Esquire.

Mike Gravel for President 2008—Determination of Ineligibility and Letter of Candidate and Committee Certification and Agreements.

Report of the Audit Division on the Joseph Shannon for Congress Committee.

Report of the Audit Division on the Derrick Shepherd Campaign Committee.

Revised Long Range Budget Estimates for the Presidential Election Campaign Fund FY 2009-FY 2019.

Management and Administrative Matters

Individuals who plan to attend and require special assistance, such as sign language interpretation or other reasonable accommodations, should contact Mary Dove, Commission Secretary, at (202) 694-1040, at least 72 hours prior to the hearing date.

Person to Contact for Information: Robert Biersack, Press Officer, Telephone: (202) 694-1220.

Mary W. Dove,
Secretary of the Commission.

[FR Doc. E8-28483 Filed 12-1-08; 8:45 am]

BILLING CODE 6715-01-M